SECURITIES AND EXCHANGE COMMISSION

17 CFR Part 242

[Release No. 34-51808A; File No. S7-10-04]

RIN 3235-AJ18

Regulation NMS

AGENCY: Securities and Exchange Commission.

ACTION: Final rule; correcting amendment.

SUMMARY: The Securities and Exchange Commission published a document in the Federal Register on June 29, 2005 (70 FR 37496) adopting rules under Regulation NMS, including the redesignation of the national market system rules previously adopted under section 11A of the Securities Exchange Act of 1934 (“Exchange Act”), and two amendments to the joint industry plans for disseminating market information. In that document, two paragraphs from Rule 11Aa3-2 under the Exchange Act were inadvertently omitted from their redesignation into Regulation NMS. This document corrects that omission by adding paragraphs (a)(8)(i) and (a)(8)(ii) to Rule 608 of Regulation NMS.

DATES: Effective date: August 29, 2005.

FOR FURTHER INFORMATION CONTACT: Daniel M. Gray, Market Structure Counsel, at (202) 551-5603 or David Liu, Attorney, at (202) 551-5645, Division of Market Regulation, Securities and Exchange Commission, Station Place, 100 F Street, NE., Washington, DC 20549.

SUPPLEMENTARY INFORMATION: The Commission is making technical corrections to add paragraphs (a)(8)(i) and (a)(8)(ii) to Rule 608 of Regulation NMS.

List of Subjects in 17 CFR Part 242

Brokers, Reporting and recordkeeping requirements, Securities.

Accordingly, 17 CFR Part 242 is corrected by making the following correcting amendment:

PART 242—REGULATIONS M, SHO, ATS, AC, AND NMS AND CUSTOMER MARGIN REQUIREMENTS FOR SECURITY FUTURES

1. The authority citation for part 242 continues to read as follows:

Authority: 15 U.S.C. 77g, 77q(a), 77s(a), 78b, 78c, 78g(c)(2), 78i(a), 78j, 78k-1(c), 78l, 78m, 78n, 78o(b), 78o(c), 78o(g), 78q(a), 78q(b), 78q(h), 78w(a), 78dd-1, 78mm, 80a-23, 80a-29, and 80a-37.

2. Amend § 242.608 by adding paragraphs (a)(8)(i) and (a)(8)(ii) to read as follows:

§ 242.608 Filing and amendment of national market system plans.

(a) * * *

(8)(i) A participant in an effective national market system plan shall ensure that a current and complete version of the plan is posted on a plan Web site or on a Web site designated by plan participants within two business days after notification by the Commission of effectiveness of the plan. Each participant in an effective national market system plan shall ensure that such Web site is updated to reflect amendments to such plan within two business days after the plan participants have been notified by the Commission of its approval of a proposed amendment pursuant to paragraph (b) of this section. If the amendment is not effective for a certain period, the plan participants shall clearly indicate the effective date in the relevant text of the plan. Each plan participant also shall provide a link on its own Web site to the Web site with the current version of the plan.

(ii) The plan participants shall ensure that any proposed amendments filed pursuant to paragraph (a) of this section are posted on a plan Web site or a designated Web site no later than two business days after the filing of the proposed amendments with the Commission. The plan participants shall maintain any proposed amendment to the plan on a plan Web site or a designated Web site until the Commission approves the plan amendment and the plan participants update the Web site to reflect such amendment or the plan participants withdraw the proposed amendment. If the plan participants withdraw proposed amendments, the plan participants shall remove such amendments from the plan Web site or designated Web site within two business days of withdrawal. Each plan participant shall provide a link to the Web site with the current version of the plan.

* * * * *

Dated: December 28, 2005.
Jonathan G. Katz,
Secretary.

[FR Doc. 06-13 Filed 1-3-06; 8:45 am]

BILLING CODE 8010-01-P